DEPARTMENT OF STATE

[Public Notice: 9613]

Privacy Act; System of Records: Legal Case Management Records, State-21.

SUMMARY: Notice is hereby given that the Department of State proposes to amend an existing system of records, Legal Case Management Records, State-21, pursuant to the provisions of the Privacy Act of 1974, as amended (5 U.S.C. 552a) and Office of Management and Budget Circular No. A-130, Appendix I.

DATES: This system of records will be effective on August 1, 2016, unless we receive comments that will result in a contrary determination.

ADDRESSES: Any persons interested in commenting on the amended system of records may do so by writing to the Director; Office of Information Programs and Services, A/GIS/IPS; Department of State, SA-2; 515 22nd Street NW., Washington, DC 20522-8100.

FOR FURTHER INFORMATION CONTACT: William Fischer, Acting Director; Office of Information Programs and Services, A/GIS/IPS; Department of State, SA-2; 515 22nd Street NW., Washington, DC 20522-8100, or at Privacy@state.gov.

SUPPLEMENTARY INFORMATION: The Department of State proposes that the current system will retain the name “Legal Case Management Records” (previously published at 42 FR 49709). Information in the Legal Adviser's Case Management Records is used to provide or facilitate the provision of legal advice and opinion to the offices of the Department of State and to facilitate defense or representation of the Department in litigation and in other legal proceedings. The proposed system will include modifications to all sections. The following sections have been added to the system of records, Legal Case Management Records, State-21, to ensure Privacy Act of 1974 compliance: Purpose and Disclosure to Consumer Reporting Agencies.

The Department's report was filed with the Office of Management and Budget. The amended system description, “Legal Case Management Records, State-21,” will read as set forth below.

Joyce A. Barr,
Assistant Secretary for Administration, U.S. Department of State.

STATE-21

SYSTEM NAME:

Legal Case Management Records.

SECURITY CLASSIFICATION:

Unclassified and Classified.

SYSTEM LOCATION:

Department of State, 2201 C Street NW., Washington, DC 20520; Department of State annexes, U.S. Embassies, U.S. Consulates General, and U.S. Consulates.

CATEGORIES OF INDIVIDUALS COVERED BY THE SYSTEM:

Individuals who have filed administrative grievances and Equal Employment Opportunity complaints; individuals involved in disciplinary proceedings; individuals involved in alleged criminal activity or activity in violation of regulations; individuals who have filed claims against the United States; individuals who have sued the Department of State or any officials; individuals whose records may be relevant to legal proceedings involving the Department of State; individuals who are the subjects of inquiries from federal, state, and local agencies; individuals who are the subjects of income withholding orders, garnishment orders, bankruptcy orders, state tax liens, and similar court or agency documents; individuals who have raised or discussed legal or policy questions with the Office of the Legal Adviser; and individuals who have otherwise contacted the Office of the Legal Adviser.

CATEGORIES OF RECORDS IN THE SYSTEM:

Biographic information, such as name, contact information, and place of birth; employment histories; summaries of circumstances surrounding grievances, Equal Employment Opportunity complaints, claims, litigation, or disciplinary proceedings; internal memoranda; copies of indictments and charges; criminal records and reports of investigations; electronic mail (email); electronic records in various formats; supporting documentation for a case against an individual; contracts and other legal documents; income withholding orders, garnishment orders, bankruptcy orders, state tax liens, and similar court or agency documents; inquiries from federal, state, and local agencies and responses to those inquiries; documents that may be relevant to legal proceedings and investigations; correspondence related to legal or policy issues, regardless of format (paper or electronic).

AUTHORITY FOR MAINTENANCE OF THE SYSTEM:

5 U.S.C. 301; 22 U.S.C. 2651a; 22 U.S.C. 2656; 42 U.S.C. 659; 42 U.S.C. 666; 5 CFR part 581.

PURPOSE(S):

Information in the Legal Adviser's Case Management Records is used to provide or facilitate the provision of legal advice and opinion to the offices of the Department of State and to facilitate defense or representation of the Department in litigation and in other legal proceedings. Information may also be used to reply to requests from courts or agencies.

ROUTINE USES OF RECORDS MAINTAINED IN THE SYSTEM, INCLUDING CATEGORIES OF USERS AND PURPOSES OF SUCH USES:

The principal users of this information outside the Department of State are:

(a) The Department of Justice and other federal agencies in connection with facilitating defense of the Department in legal proceedings, analyzing legal issues, or fulfilling statutory responsibilities;

(b) Federal, state, and foreign courts, tribunals, and adjudicatory bodies in connection with legal proceedings;

(c) A party to a legal proceeding involving the Department, or the party's attorney or other designated representative in connection with legal proceedings;

(d) An attorney or other designated representative of any source, witness or subject in connection with legal proceedings;

(e) Appropriate committees and subcommittees of Congress in furtherance of their respective oversight functions; and

(f) Federal agencies having statutory or other lawful authority to maintain such information.

The Department may respond to federal, state, and local agency inquiries related to child support, alimony, bankruptcy, state tax lien, or similar issues. Pursuant to a court or agency order, the Department may disclose relevant information to private collection agencies, law firms and/or other individuals authorized to receive benefits under such order.

The Department of State periodically publishes in the Federal Register its standard routine uses which apply to all of its Privacy Act systems of records. These notices appear in the form of a Prefatory Statement. These standard routine uses apply to Legal Case Management Records, State-21.

DISCLOSURE TO CONSUMER REPORTING AGENCIES:

None.

POLICIES AND PRACTICES FOR STORING, RETRIEVING, ACCESSING, RETAINING AND DISPOSING OF RECORDS IN THE SYSTEM

Storage:

Hard copy and electronic media.

RETRIEVABILITY:

Hardcopy by name, date, country, and/or subject; electronic by keyword or metadata.

SAFEGUARDS:

All users are given cyber security awareness training which covers the procedures for handling Sensitive but Unclassified information, including personally identifiable information (PII). Annual refresher training is mandatory. In addition, all Foreign Service and Civil Service employees and those Locally Employed Staff who handle PII are required to take the FSI distance learning course instructing employees on privacy and security requirements, including the rules of behavior for handling PII and the potential consequences if it is handled improperly. Before being granted access to Legal Case Management Records, a user must first be granted access to the Department of State computer system.

Remote access to the Department of State network from non-Department owned systems is authorized only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are retired in accordance with published Department of State Records Disposition Schedules as approved by the National Archives and Records Administration (NARA). More specific information may be obtained by writing to the Director, Office of Information Programs and Services, A/GIS/IPS, SA-2, Department of State, 515 22nd Street NW., Washington, DC 20522-8100.

SYSTEM MANAGER AND ADRESS:

Executive Director, Office of the Legal Adviser and Bureau of Legislative Affairs, Department of State, 600 19th Street NW., Suite 5.600, Washington, DC 20522.

NOTIFICATION PROCEDURES:

Individuals who have reason to believe that the Office of the Legal Adviser might have records pertaining to him or her should write to the Director, Office of Information Programs and Services, A/GIS/IPS, SA-2, Department of State, 515 22nd Street NW., Washington, DC 20522-8100 or through the Department's Freedom of Information Act (FOIA) Web page at https://foia.state.gov/Request/. The individual must specify that he/she wishes the records of the Office of the Legal Adviser to be checked. At a minimum, the individual must include: name; date and place of birth; current mailing address and zip code; signature; brief description of the circumstances, including the approximate dates, which give the individual cause to believe that the Office of the Legal Adviser might have records pertaining to him or her.

RECORD ACCESS AND AMENDMENT PROCEDURES:

Individuals who wish to gain access to or amend records pertaining to them should write to the Director, Information Programs and Services (address above).

CONTESTING RECORD PROCEDURES:

Individuals who wish to contest records pertaining to them should write to the Director, Information Programs and Services (address above).

RECORD SOURCE CATEGORIES:

These records contain information that is primarily obtained from the individual; offices of the Department of State; other government agencies, particularly the Department of Justice; court systems and administrative bodies; previous employers; neighbors; security investigation reports; other employees or individuals having knowledge of the issue about which a legal opinion is requested or who are party to litigation or investigation.

SYSTEM EXEMPTED FROM CERTAIN PROVISION OF THE ACT:

Pursuant to 5 U.S.C. 552a (k)(1), records in this system may be exempted from subsections (c)(3), (d), (e)(1), (e)(4)(G), (e)(4)(H), (e)(4)(I), (f) of § 552a. See 22 CFR 171.26.

[FR Doc. 2016-14828 Filed 6-21-16; 8:45 am]

BILLING CODE 4710-08-P